CONSUMER PRODUCT SAFETY COMMISSION

Public Field Hearing Concerning All-Terrain Vehicles

AGENCY: Consumer Product Safety Commission.

ACTION: Notice of public field hearing.

SUMMARY: The Consumer Product Safety Commission (“CPSC” or “Commission”) will conduct a public field hearing in Morgantown, West Virginia on June 5, 2003 to obtain information and views from the public concerning all-terrain vehicles (“ATVs”). The Commission conducted several field hearings on ATVs in 1985.

From 1997 to 2001 the estimated number of ATV-related injuries treated in hospital emergency rooms rose from 54,700 to 111,700 (a 104% increase). Deaths have also been increasing and the Commission staff has estimated that there were 547 deaths associated with the use of ATVs in 2000. From 1997 to 2001 the estimated number of ATV drivers rose from 12 million to 16.3 million (a 36% increase), the estimated total number of driving hours rose from 1575 million to 2364 million (a 50% increase), and the estimated number of ATVs rose from 4 million to 5.6 million (a 40% increase). None of the increases in these measures of exposure to the risk of operating ATVs accounts for the increases in the number of injuries during the same time period.

The Commission requests members of the public to participate in this hearing. The Commission is particularly interested in participation from users of ATVs (both recreational and occupational); persons who have been involved in accidents or have been injured while riding ATVs; state and local government officials or organizations involved with ATVs; medical professionals and emergency service providers; safety and design engineers; and manufacturers, distributors and dealers of ATVs.

DATES: The hearing will be held on June 5, 2003, beginning at 10 a.m. and will continue until 7 p.m. The Commission will recess for lunch on or about 12 noon. Requests to make oral presentations, and 10 copies of the text of the presentation, must be received by the CPSC Office of the Secretary no later than May 29, 2003. Persons making presentations at the meeting should provide an additional 10 copies for dissemination on the date of the meeting. The Commission reserves the right to limit the number of persons who make presentations and the duration of their presentations. To prevent duplication in presentations, groups may be directed to designate a spokesperson.

Written submissions, in addition to, or instead of, an oral presentation may be sent to the address listed below and will be accepted until July 5, 2003.

ADDRESSES: The meeting will be held at West Virginia University, Health Sciences Campus, Robert C. Byrd Health Science Center, Medical Center Drive, Morgantown, WV 26506. Requests to make oral presentations, and texts of oral presentations should be captioned “ATV Hearing” and mailed to the Office of the Secretary, Consumer Product Safety Commission, Washington, DC 20207, or delivered to that office, room 502, 4330 East-West Highway, Bethesda, Maryland 20814. Requests and texts of oral presentations may also be submitted by facsimile to (301) 504-0127 or by e-mail to cpsc-os@cpsc.gov.

FOR FURTHER INFORMATION CONTACT: For information about the schedule for submission of requests to make oral presentations and submission of texts of oral presentations, contact Rockelle Hammond, Office of the Secretary, Consumer Product Safety Commission, Washington, DC 20207; telephone (301) 504-6833; fax (301) 504-0127; e-mail rhammond@cpsc.gov.

SUPPLEMENTARY INFORMATION:

A. Background

The question of ATV safety has been an issue of interest to the Commission since the 1980's. In 1985, the Commission held several hearings in locations around the country to solicit views from the public on how to address hazards posed by ATVs. In 1987, the Commission filed a lawsuit under section 12 of the Consumer Product Safety Act (“CPSA”) to declare ATVs an imminently hazardous consumer product. 15 U.S.C. 2061(b)(1). The lawsuit was settled in 1988 by Consent Decrees between the Commission and ATV distributors that were effective for 10 years. The Consent Decrees contained provisions addressing both three-wheel and four-wheel ATVs. After the Consent Decrees expired, the Commission entered into “ATV Action Plans” with individual distributors who had been subject to the Consent Decrees and three other distributors who had entered into the market subsequently. Since the expiration of the Consent Decrees, the Commission has continued to gather information about ATV-related injuries and deaths. The Commission is interested in obtaining information and views from the public about ATV safety and ideas for approaches that may address ATV-related injuries and deaths.

The Commission is aware that the sales and size of ATVs have been increasing in recent years. The Commission's data indicate that between 1982 and 2001 there were reports of 4,541 ATV-related deaths. Of these deaths, 1,714 (or 38%) were to children under 16 years old. In the year 2001, there were 111,700 people taken to emergency rooms for ATV-related injuries, of which 34,800 were under 16 years old. The Commission staff completed a risk analysis earlier this year examining some of the factors and circumstances involved in ATV incidents. This risk analysis revealed a number of factors to be considered in determining why the numbers of injuries associated with ATV operation is increasing faster than the exposure to ATVs: (1) the increase in injuries has been greater to riders aged 16 and above, and (2) the increase in injuries associated with the use of ATVs with engine sizes 400cc and above has been greater than those associated with the use of ATVs with smaller engine sizes. In addition, the market for used ATVs appears to have grown significantly, in terms of gross numbers. The Commission is interested in learning whether these factors, a combination of them, or other factors, are causing ATV injuries to increase faster than ATV sales and use.

The Commission is concerned about the dramatic increase in ATV-related injuries and the continued increase in ATV-related deaths and believes that holding a hearing will provide an opportunity for the interested public to share their concerns about ATVs and ATV safety.

The Commission has a petition from the Consumer Federation of America and other groups (Petition CP-02-4/HP-02-1) requesting that the Commission ban the sale of adult-size four-wheel ATVs sold for the use of children under 16 years of age. The Commission requested and received written comments on the petition (67 FR 64353 and 67 FR 78776). These comments are posted on our Web site, http://www.cpsc.gov. This hearing will provide an additional opportunity for the public to express their views about this petition.

B. The Public Hearing

The purpose of the public hearing is to provide a forum for oral presentations concerning ATVs. Specifically, the Commission requests comments from interested stakeholders and citizens on the following areas of interest:

1. Local and state ATV use restrictions, regulations and licensing activities and their impact upon ATV safety.

2. Current ATV use patterns (recreational, industrial, agricultural, or other uses), and injuries and safety issues related to those specific uses.

3. Information from ATV owners and users regarding ATV use, safety issues, accidents and injuries, minimum riding and purchasing age requirements, and future government action.

4. Current local, state and industry safety efforts and training programs.

5. Information from ATV manufacturers and dealers regarding the availability and use of safety training for ATV purchasers, and ATV consumer purchasing patterns (age of purchasers, model type and size, experienced vs. inexperienced riders, etc.).

6. Whether factors such as the rider's age, ATV engine size, and/or the large used ATV sales market (or any other factors) have influenced the increase in injuries and deaths observed by the Commission staff during its recent ATV risk analysis study.

7. Whether there should be a performance standard for ATVs and what requirements related to safety should be included.

Participation in the hearing is open. See the DATES section of this notice for information on making requests to give oral presentations at the hearing and on making written submissions.

Dated: April 18, 2003.
Todd A. Stevenson,
Secretary, Consumer Product Safety Commission.

[FR Doc. 03-10046 Filed 4-22-03; 8:45 am]

BILLING CODE 6355-01-P